DEPARTMENT OF THE TREASURY

Fiscal Service

Financial Management Service: Senior Executive Service; Financial Management Service Performance Review Board (PRB)

AGENCY: Financial Management Service, Fiscal Service, Treasury.

ACTION: Notice

SUMMARY: This notice announces the appointment of members to the Financial Management Service (FMS) Performance Review Board (PRB).

DATES: This notice is effective on September 6, 2000.

FOR FURTHER INFORMATION CONTACT: Kenneth R. Papaj, Deputy Commissioner, Financial Management Service, 401 14th Street, SW., Washington, DC 20227; telephone (202) 874-7000.

SUPPLEMENTARY INFORMATION: Pursuant to 5 U.S.C. 4314(c)(4), this notice is given of the appointment of individuals to serve as members of the Financial Management Service (FMS) Performance Review Board (PRB). This Board reviews the performance appraisals of career senior executives below the Assistant Commissioner level and makes recommendations regarding ratings, bonuses, and other personnel actions. Three voting members constitute a quorum. The names and titles of the FMS PRB members are as follows:

Primary Members

Kenneth R. Papaj, Deputy Commissioner

Constance E. Craig, Assistant Commissioner, Information Resources

John D. Newell, Assistant Commissioner, Regional Operations

Larry D. Stout, Assistant Commissioner, Governmentwide Accounting

Nancy C. Fleetwood, Assistant Commissioner, Debt Management Services

Bettsy H. Lane, Assistant Commissioner, Federal Finance

Alternate Members

Scott H. Johnson, Assistant Commissioner, Management

Judith R. Tillman, Assistant Commissioner, Financial Operations

Dated: August 30, 2000.
Kenneth R. Papaj,
Acting Commissioner.

[FR Doc. 00-22707 Filed 9-5-00; 8:45 am]

BILLING CODE 4810-35-M